ENVIRONMENTAL PROTECTION AGENCY

40 CFR Part 52

[EPA-R08-OAR-2014-0916; FRL-9932-89-Region 8]

Approval and Promulgation of Air Quality Implementation Plans; South Dakota; Revisions to South Dakota Administrative Code; Correction

AGENCY: Environmental Protection Agency (EPA).

ACTION: Proposed rule; correction.

SUMMARY: This document contains a correction to the proposed rulemaking, which was published on July 14, 2015. The proposal contained an error that is identified and corrected in this action.

DATES: This document is effective August 24, 2015.

FOR FURTHER INFORMATION CONTACT: Adam Clark, Air Program, U.S. Environmental Protection Agency, Region 8, Mailcode 8P-AR, 1595 Wynkoop, Denver, Colorado 80202-1129, (303) 312-7104, clark.adam@epa.gov.

SUPPLEMENTARY INFORMATION:

Background

In a proposed rule published July 14, 2015 (80 FR 40952), EPA proposed to approve updates to Administrative Rules of South Dakota (ARSD) into the South Dakota State Implementation Plan (SIP). Among the updates EPA proposed to approve was Article 74:36:05, “Operating Permits for Part 70 Sources” which details South Dakota's Clean Air Act Title V program. Clean Air Act Title V requirements are not subject to Section 110 of the Clean Air Act and are thus not required to be incorporated into SIPs. Therefore, EPA is issuing this correction document to remove the proposed approval of ARSD 74:36:05 from our July 14, 2015 action. EPA is instead proposing not to take action on South Dakota's updates to this provision.

List of Subjects in 40 CFR Part 52

Environmental protection, Air pollution control, Carbon monoxide, Incorporation by Reference, Intergovernmental relations, Lead, Nitrogen dioxide, Ozone, Particulate matter, Reporting and recordkeeping requirements, Sulfur oxides, Volatile organic compounds.

Authority: 42 U.S.C. 7401 et seq.

Dated: August 10, 2015.
Debra H. Thomas,
Acting Regional Administrator, Region 8.

[FR Doc. 2015-20740 Filed 8-21-15; 8:45 am]

BILLING CODE 6560-50-P